DEPARTMENT OF THE INTERIOR

National Park Service

National Register of Historic Places; Notification of Pending Nominations

Nominations for the following properties being considered for listing in the National Register were received by the National Park Service before October 30, 2004. Pursuant to section 60.13 of 36 CFR Part 60 written comments concerning the significance of these properties under the National Register criteria for evaluation may be forwarded by United States Postal Service, to the National Register of Historic Places, National Park Service, 1849 C Street, NW., 2280, Washington, DC 20240; by all other carriers, National Register of Historic Places, National Park Service, 1201 Eye Street, NW., 8th floor, Washington DC 20005; or by fax, (202) 371-6447. Written or faxed comments should be submitted by December 6, 2004.

Carol D. Shull,
Keeper of the National Register of Historic Places.

Georgia

Bryan County

Pembroke Historic District, Centered on U.S. 280 and Main St., Pembroke, 04001318

Wilkes County

Washington Historic District, Centered on West Robert Toombs Ave. and N. Alexander St., Washington, 04001319

Illinois

Cook County

Burnham, Anita Willets, Log House, 1140 Willow Rd., Winnetka, 04001297

Chicago and North Western Railway Power House, 211 N. Clinton St., Chicago, 04001306

Oak Park Conservatory, 615 Garfield St., Oak Park, 04001298

University Apartments, 1401 and 1451 E. 55th St.;1401 and 1450 E. 55th Place, Chicago, 04001301

Du Page County

Bassett, Orland P., House, 329 E. Sixth St., Hinsdale, 04001299

Kane County

Hotel Arthur, 2-4 N. Broadway, Aurora, 04001300

Ogle County

Polo Independent Order of Odd Fellows Lodge No. 197, 117 W. Mason St., Polo, 04001302

Peoria County

Springdale Cemetery, 3014 N. Prospect Rd., Peoria, 04001303

Tazewell County

St. Louis, Peoria and Northern Railroad Depot, 1408 Broadway St., Pekin, 04001305

Winnebago County

Seventh Street Commercial Historic District, Roughly bounded by 7th St., Charles St., 6th St., Keith Creek, Rockford, 04001304

Indiana

Allen County

Byron, Irene, Tuberculosis Sanatorium—Physicians' Residences, 12371 and 12407 Lima Rd., Fort Wayne, 04001316

Rankin, Alexander Taylor, House, 818 S. Lafayette St., Fort Wayne, 04001317

Benton County

Fowler Theatre, 111 E. 5th St., Fowler, 04001315

Cass County

Keip, John, House, 2500 E. Broadway Ave., Logansport, 04001307

Delaware County

Richwood Evangelical Lutheran Church, 9700 West County Road 700 South, Middleton, 04001314

Huntington County

Victory Noll—St. Felix Friary Historic District, 1900 W. Park Dr.—1280 Hitzfield St., Huntington, 04001311

Jay County

Votaw, Jonas, House, 1525 S. Meridian St., Portland, 04001308

Marion County

Bingham, Joseph J., Indianapolis Public School #84 (Public School Buildings in Indianapolis Built Before 1940 MPS), 440 E. 57th St.—5702 Central Ave., Indianapolis, 04001310

Brendonwood Historic District, Roughly bounded by Fall Creek, 56th St., and Brendon Forest Dr., Indianapolis, 04001313

Ralph Waldo Emerson Indianapolis Public School #58 (Public School Buildings in Indianapolis Built Before 1940 MPS) 321 N. Linwood St., Indianapolis, 04001309

Wheeler—Stokely Mansion, 3200 Cold Spring Rd., Indianapolis, 04001312

Iowa

Clay County

Grand Avenue Historic Commercial District, 301-605 Grand Ave., 12-18, 21 W. 5th St., 10,13,15-19 W. 4th St., Spencer, 04001322

Clinton County

Wilson District #7 School, 1507 270th Ave., Delmar, 04001320

Lee County

Melrose Historic District (Iowa City, Iowa MPS AD), Portions of Melrose Ave., Melrose Ct., Melrose Circle, Brookland Park Dr., Brookland Place and Myrtle Ave., Iowa City, 04001321

Linn County

Ausadie Building, 845 First Ave., SE., Cedar Rapids, 04001324

Polk County

Herring Motor Car Company Building, 110 W. 10th St., Des Moines, 04001325

Standard Glass and Paint Company Building, 112 10th St., Des Moines, 04001323

Louisiana

Orleans Parish

Southern Railway Freight Office, 1201 St. Louis St., New Orleans, 04001338

New Hampshire

Merrimack County

Allenstown Meeting House, Deerfield Rd., Allenstown, 04001327

New York

Columbia County

Dubois, Henry A., and Evanlina, House, 105 Ten Broeck Ln., Hudson, 04001340

Delaware County

Hotel Delaware, 391 Main St., East Branch, 04001342

Union Free School, 218 NY 206, Downsville, 04001345

Dutchess County

Beacon Engine Company No. 1 Firehouse, 57 E. Main St., Beacon, 04001341

Genesee County

First Presbyterian Church, 300 E. Main St., Batavia, 04001339

Livingston County

National Hotel, 2927 Main St., Cuylerville, 04001344

New York County

Schickel, William, House, 52 E. 83rd St., New York, 04001326

St. Lawrence County

Clare Town Hall, 3441 CR 27, Clare, 04001343

Oklahoma

Adair County

Bushyhead, Rev. Jesse, Grave, (Cherokee Trail of Tears MPS) OK 59, Westville, 04001334

Alfalfa County

Cherokee Friends Church, 120 S. Pennsylvania, Cherokee, 04001337

Carter County

Ardmore Historic Commercial District (Boundary Increase and Decrease), Main St. from Santa Fe RR tracks to “B” St., N. Washington from Main to 2nd Ave. NE, Caddo from Main to 2nd Ave. NE, Ardmore, 04001331

Cherokee County

Illinois Campground, (Cherokee Trail of Tears MPS) Cty Rd. DO775, Tahlequah, 04001330

Garfield County

Kenwood Historic District, Bounded by Oak St., Maple, Washington and Madison, Enid, 04001328

Garvin County

Antioch Dependent School District #15, 0.5 mi. W of jct of Antioch Rd. and OK 74, Elmore City, 04001333

Harper County

Patsy's Island Site, Address Restricted, Woodward, 04001335

Smith No. 2 Site, Address Restricted, Woodward, 04001329

Payne County

Campus Fire Station, 600 W. University Ave., Stillwater, 04001336

Tulsa County

Phillips 66 Station #473, 2224 E. Admiral Blvd., Tulsa, 04001332

A request for REMOVAL has been made for the following nominations:

Minnesota

Goodhue County

Nelson, Julia B., House, 219 5th St., Red Wing, 79001244

Steele County

Clinton Fells Mill and Dam, Off Co. Hwy. 9, Medford vicinity, 86001462

[FR Doc. 04-25654 Filed 11-18-04; 8:45 am]

BILLING CODE 4312-51-P